DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. chapter 35). To request a copy of the clearance requests submitted to OMB for review, e-mail paperwork@hrsa.gov or call the HRSA Reports Clearance Office on (301) 443-1129.

The following request has been submitted to the Office of Management and Budget for review under the Paperwork Reduction Act of 1995:

Proposed Project: Performance Report for Grants and Cooperative Agreements (OMB No. 0915-0061)—Revision

The HRSA Bureau of Health Professions (BHPr) Performance Report for Grants and Cooperative Agreements is used to report grantee activities for Title VII and VIII health professions and nursing education and training programs. The reporting system measures the grantee's success in meeting (1) the objectives of the grant project, and (2) the cross-cutting outcomes developed for the Bureau of Health Professions' Title VII and VIII health professions and nursing education and training programs. The reporting system has two parts: Part I of the performance report is designed to collect information on activities specific to a given program and Part II, the core performance measures, collects data on overall project performance related to BHPr's strategic goals, objectives, outcomes, and legislative requirements. Progress will be measured based on the objectives of the grant project, and outcome measures and indicators developed by the Bureau to meet requirements of the Government Performance and Results Act (GPRA) and other statutory authorities.

BHPr is revising the grantee burden reported on the previous information collection request. As a result of eliminating multiple race combinations for two or more races, the hours per response has decreased. In addition, measures will be added to collect outcome data on a new program as a result of the Affordable Care Act (i.e., State Workforce Development Grants). New measures will also be added to collect outcome data on the State Primary Care Offices (PCOs) program and the Oral Health Program. Based on a more accurate estimation of BHPr grantees reporting, the hours per response is approximately 8.5 hours.

The estimated annual burden is as follows:

Report | Number of respondents | Responses per respondent | Total responses | Hours per response | Total burden hours
BHPr Performance Report | 1,100 | 1 | 1,100 | 8.5 | 9,350
Total | 1,100 |  | 1,100 |  | 9,350

Written comments and recommendations concerning the proposed information collection should be sent within 30 days of this notice to the desk officer for HRSA, either by e-mail to OIRA_submission@omb.eop.gov or by fax to 202-395-6974. Please direct all correspondence to the “attention of the desk officer for HRSA.”

Dated: November 23, 2010.
Robert Hendricks,
Director, Division of Policy and Information Coordination.

[FR Doc. 2010-30166 Filed 11-29-10; 8:45 am]

BILLING CODE 4165-15-P